DEPARTMENT OF HEALTH AND HUMAN SERVICES

Agency for Toxic Substances and Disease Registry

Community/Tribal Subcommittee and the Board of Scientific Counselors, Agency for Toxic Substances and Disease Registry: Meetings

In accordance with section 10(a)(2) of the Federal Advisory Committee Act (Pub. L. 92-463), the Agency for Toxic Substances and Disease Registry (ATSDR) announces the following subcommittee and committee meetings.

Name: Community/Tribal Subcommittee.

Times and Dates: 9 a.m.-5 p.m., November 13, 2001; 8:30 a.m.-5 p.m., November 14, 2001.

Place: Sheraton Colony Square Hotel, 188 14th Street, Atlanta, Georgia, 30361.

Status: Open to the public, limited by the available space. The meeting room accommodates approximately 50 people.

Purpose: This subcommittee brings to the Board advice, citizen input, and recommendations on community and tribal programs, practices, and policies of the Agency.

Matters to be Discussed: Agenda items include an update on ATSDR activities; discussion on individual rights and informed consent; presentation on Academia Agency Community Network; review of ATSDR's improved Public Health Assessment process in impacted communities; presentation on ATSDR's Emergency Response Team; update on the Task Forces progress report and recommendations; report on the CTS Evaluation Process; and review of Action Items and Recommendations from previous meeting.

Name: Board of Scientific Counselors, ATSDR.

Times and Dates: 8:30 a.m.-5 p.m., November 15, 2001, 8:30 a.m.-12 p.m., November 16, 2001.

Place: Sheraton Colony Square Hotel, 188 14th Street, Atlanta, Georgia, 30361.

Status: Open to the public, limited by the available space. The meeting room accommodates approximately 50 people.

Purpose: The Board of Scientific Counselors, ATSDR, advises the Secretary; the Assistant Secretary for Health; and the Administrator, ATSDR, on ATSDR programs to ensure scientific quality, timeliness, utility, and dissemination of results. Specifically, the Board advises on the adequacy of science in ATSDR-supported research, emerging problems that require scientific investigations, accuracy and currency of the science in ATSDR reports, and program areas to emphasize or de-emphasize. In addition, the Board recommends research programs and conference support for which the Agency awards grants to universities, colleges, research institutions, hospitals, and other public and private organizations.

Matters to be Discussed: Agenda items will include a review of Action Items; updates on Research Agenda and formation of Health Department Subcommittee; ATSDR updates; review of ATSDR activities at Toms River, New Jersey; overview and community involvement activities; Public Health Assessment, exposure, assessments, health studies, and other activities; overview of the combined vision; update on joint activities; Agency perspective on “vision;” report of Community and Tribal Subcommittee; report on emergency preparedness and response; and Fallon, Nevada asthma activities.

Written comments are welcomed and should be received by the contact person listed below prior to the opening of the meeting.

Agenda items are subject to change as priorities dictate.

Contact Person for More Information: Robert Spengler, Sc.D., Executive Secretary, BSC, ATSDR, M/S E-28, 1600 Clifton Road, NE, Atlanta, Georgia 30333, telephone 404/498-0003.

Dated: October 11, 2001.
John Burckhardt,
Acting Director, Management Analysis and Services Office, Centers for Disease Control and Prevention.

[FR Doc. 01-26080 Filed 10-16-01; 8:45 am]

BILLING CODE 4163-70-P